DEPARTMENT OF COMMERCE

National Oceanic and Atmospheric Administration

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of the Shrimp Advisory Panel.

DATES: The meeting will be held on Thursday, February 19, 2015, from 9 a.m. until 5 p.m.

ADDRESSES: The meeting will be held at the Gulf of Mexico Fishery Management Council office, 2203 North Lois Avenue, Suite 1100, Tampa, FL 33607; telephone: (813) 348-1630.

FOR FURTHER INFORMATION CONTACT: Dr. Morgan Kilgour, Fishery Biologist, Gulf of Mexico Fishery Management Council; telephone: (813) 348-1630; fax: (813) 348-1711; email: morgan.kilgour@gulfcouncil.org.

SUPPLEMENTARY INFORMATION: The items of discussion on the agenda are as follows:

Shrimp Advisory Panel Agenda, Thursday, February 19, 2015, 9 a.m. until 5 p.m.

(1) Adoption of agenda

(2) Approval of minutes from March 5, 2014 meeting

(3) Plan of work

(4) Biological review of the Texas closure

a. Shrimp AP recommendations

(5) Status update on Shrimp Amendment 16 “Adjustments to the Annual Catch Limit and Accountability Measure for Royal Red Shrimp”

(6) Gulf of Mexico Penaeid Shrimp Stock Synthesis MSY Estimates

a. Summary of Shrimp MSY workshop recommendations

b. Shrimp AP recommendations

(7) Status update on Shrimp Amendment 15 “Status Determination Criteria for Penaeid Shrimp and Adjustments to the Shrimp Framework Procedure”

a. Shrimp AP recommendations

(8) Review of the Shrimp Permit Moratorium Scoping Document (Shrimp Amendment 17)

a. Timeline

b. Summary of the Shrimp Permit Moratorium Working Group meeting on Feb. 18, 2015

c. Shrimp AP recommendations

(9) Other Business

a. Request for identifying appropriate people to attend the next Coral SSC/AP meeting

-Adjourn-

For meeting materials see folder “Shrimp Advisory Panel Feb 2015” on the Gulf Council file server. To access the file server, the URL is https://public.gulfcouncil.org:5001/webman/index.cgi, or go to the Council's Web site and click on the FTP link in the lower left of the Council Web site (http://www.gulfcouncil.org). The username and password are both “gulfguest”. The Agenda is subject to change.

The meeting will be Webcast over the Internet. A link to the Webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: January 28, 2015.
Tracey L. Thompson,
Acting Deputy Director, Office of Sustainable Fisheries, National Marine Fisheries Service.

[FR Doc. 2015-01900 Filed 1-30-15; 8:45 am]

BILLING CODE 3510-22-P